DEPARTMENT OF THE TREASURY

Internal Revenue Service

26 CFR Parts 48 and 602

[TD 9145]

RIN 1545-BD29

Entry of Taxable Fuel

AGENCY: Internal Revenue Service (IRS), Treasury.

ACTION: Correction to final and temporary regulations.

SUMMARY: This document contains final and temporary regulations that were published in the Federal Register on July 30, 2004 (69 FR 45587), relating to the tax on the entry of taxable fuel into the United States.

DATES: This correction will be effective September 28, 2004.

FOR FURTHER INFORMATION CONTACT: Celia Gabrysh (202) 622-3130 (not a toll-free number).

SUPPLEMENTARY INFORMATION:

Background

The final and temporary regulations that are the subject of this correction are under section 4081 of the Internal Revenue Code.

Need for Correction

As published, the final regulations (TD 9145), contain an error that may prove to be misleading and is in need of clarification.

Correction of Publication

Accordingly, the publication of TD 9145, which was the subject of FR Doc. 04-17449, is corrected as follows:

On page 45587, column 2, in the preamble under the caption DATES last line of the paragraph, the language “48.4081-3T(c)(ii) and (iv).” is corrected to read “48.4081-3T(c)(2)(ii) and (iv).”

LaNita Van Dyke,
Acting Chief, Publications and Regulations Branch, Legal Processing Division, Associate Chief Counsel (Procedure and Administration).

[FR Doc. 04-19163 Filed 8-19-04; 8:45 am]

BILLING CODE 4830-01-P